FEDERAL FINANCIAL INSTITUTIONS EXAMINATION COUNCIL

[Docket No. AS20-04]

Appraisal Subcommittee Notice of Special Meeting

AGENCY: Appraisal Subcommittee of the Federal Financial Institutions Examination Council.

ACTION: Notice of Special Meeting.

Description: In accordance with Section 1104 (b) of Title XI of the Financial Institutions Reform, Recovery, and Enforcement Act of 1989, as amended, notice is hereby given that the Appraisal Subcommittee (ASC) met for a Special Meeting on this date:

Location: Conference Call.

Date: April 9, 2020.

Time: 1:30 p.m.

Action and Discussion Item

Appraisal Foundation 2020 Grant

The ASC convened a Special Meeting to consider a revised grant proposal that was sent to ASC members on March 26, 2020, by the Appraisal Foundation (TAF). By unanimous vote, the ASC declined to entertain the alternate grant proposal submitted to the ASC Board on March 26th and directed the ASC staff to provide written notice to TAF of this fact. The ASC staff will re-issue the Notice of Grant Award associated with the previously issued award.

Dated: April 13, 2020.
Lori Schuster,
Management and Program, Analyst.

[FR Doc. 2020-08043 Filed 4-15-20; 8:45 am]

BILLING CODE 6700-01-P